CONSUMER PRODUCT SAFETY COMMISSION

Notification of Request for Reinstatement of Approval of Information Collection Requirements—Cellulose Insulation

AGENCY: Consumer Product Safety Commission.

ACTION: Notice.

SUMMARY: In the Federal Register of August 15, 2000 (65 FR 49788), The Consumer Product Safety Commission published a notice in accordance with provisions of the Paperwork Reduction Act (44 U.S.C. Chapter 35) to announce the agency's intention to seek extension of approval of the collection of information in regulations implementing the Amended Interim Safety Standard for Cellulose Insulation (16 CFR Part 1209). One comment, discussed below, was received from the North American Insulation Manufacturers Association (NAIMA). The Commission now announces that it has submitted to the Office of Management and Budget a request for reinstatement of approval of that collection of information without change for a period of three years from the date of approval.

The cellulose insulation standard prescribes requirements for flammability and corrosiveness of cellulose insulation produced for sale to or use by consumers. The standard requires manufacturers and importers of cellulose insulation to test insulation for resistance to smoldering and small open-flame ignition, and for corrosiveness, and to maintain records of that testing.

In its comment NAIMA made five points. These issues and CPSC's responses are discussed below.

(1) First, NAIMA states that continued collection of information about cellulose insulation “is only justified if CPSC intends to review, evaluate, and act on the information collected.” NAIMA argues that if CPSC is not actually using the information collected, then any cost for collecting it is unwarranted.

CPSC's field staff has recently been instructed to perform inspections to review the records of companies that produce cellulose insulation. The staff will determine whether records indicate that manufacturers are complying with the testing and recordkeeping requirements set forth in the CPSC standard.

(2) NAIMA states that in June 2000 NAIMA submitted data to CPSC that “indicates that cellulose manufacturers routinely manufacture insulation that does not meet the CPSC safety standard.” NAIMA argues that this indicates cellulose insulation manufacturers are not aware of the requirements of the standard or are ignoring them.

As explained above, CPSC field staff will be conducting inspections of cellulose insulation manufacturing facilities' records to see that their testing and recordkeeping meet CPSC requirements. The standard requires manufacturers to conduct tests on samples to demonstrate that their product passes the tests for flammability and corrosiveness in the standard. Manufacturers must maintain records demonstrating compliance with these testing requirements.

(3) NAIMA states that “CPSC does not appear to be taking any action regarding insulation that fails to meet the interim standard.” NAIMA argues that the Commission has not taken any action in recent years to enforce the standard, and therefore further collection of this information is not justified.

The CPSC has not had information warranting enforcement action. Should CPSC become aware of such information it would take appropriate action. CPSC is attempting to obtain a better picture of current practices with the field program discussed above.

(4) NAIMA states that the current standard is “outdated and does not adequately ensure adequate fire resistance.” NAIMA argues that developments in the twenty years since the standard was last revised make it inadequate.

As NAIMA recognizes, the Amended Interim Safety Standard is based on a General Services Administration (“GSA”) specification from 1979. In 1978 Congress passed the Emergency Interim Consumer Product Safety Standard Act (codified at 15 U.S.C. 2082), which mandated that the GSA specification for cellulose insulation in effect at that time shall become a consumer product safety standard. The law also required the Commission to incorporate into the standard subsequent changes GSA made to the requirements for flame resistance and corrosiveness. Thus, in 1978, the Commission issued the Interim Safety Standard for Cellulose Insulation, and in 1979, the Commission amended that standard to incorporate revisions GSA made to its specification. GSA has not made further changes to its specification.

Congress further provided that the Commission could issue a final consumer product safety standard on its own if the Commission found that the interim safety standard “does not adequately protect the public from the unreasonable risk of injury associated with flammable or corrosive cellulose insulation.” 15 U.S.C. 2082(c)(1)(B). Thus, for the Commission to make changes to the interim standard—other than incorporating changes GSA makes in its specification—the Commission must find that the current standard does not adequately protect the public from an unreasonable risk of injury.

The Commission staff is not aware of any data showing that cellulose insulation presents an unreasonable risk of injury, or that the current interim standard is inadequate to protect against such a risk. While national fire loss data are limited because they do not adequately identify the type of thermal insulation involved in fires, a review of those data shows that from 1987 to 1997 (the latest year for which data are available), estimated fire losses involving thermal insulation have not increased. According to the law explained above, the Commission would need evidence that cellulose insulation presents an unreasonable risk of injury, or that the current interim standard is inadequate to protect against such a risk to change the interim safety standard.

(5) NAIMA states that CPSC should not continue to collect data on cellulose insulation “because it creates the false impression among consumers that the fire safety of cellulose insulation is being closely monitored and controlled.”

As explained above, CPSC field staff will be reviewing records to see that manufacturers are complying with the standard's requirements. Also, as explained above, the CPSC cannot legally change the standard unless it has data indicating that under the current standard cellulose insulation presents an unreasonable risk of injury and revising the standard is necessary to protect the public.

Additional Information About the Request for Extension of Approval of Information Collection Requirements

Agency address: Consumer Product Safety Commission, Washington, DC 20207.

Title of information collection: Amended Interim Safety Standard for Cellulose Insulation (16 CFR Part 1209).

Type of request: Reinstatement of approval.

General description of respondents: Manufacturers and importers of cellulose insulation.

Estimated number of respondents: 45.

Estimated average number of hours per respondent: 1,320 per year.

Estimated number of hours for all respondents: 59,400 per year.

Estimated cost of collection for all respondents: $802,000 per year.

Comments: Comments on this request for reinstatement of approval of information collection requirements should be submitted by April 16, 2001 to (1) The Office of Information and Regulatory Affairs, Attn: OMB Desk Officer for CPSC, Office of Management and Budget, Washington, DC 20503; telephone: (202) 395-7340, and (2) the Office of the Secretary, Consumer Product Safety Commission, Washington, DC 20207. Written comments may also be sent to the Office of the Secretary by facsimile at (301) 504-0127 or by e-mail at cpsc-os@cpsc.gov.

Copies of this request for reinstatement of the information collection requirements and supporting documentation are available from Linda Glatz, management and program analyst, Office of Planning and Evaluation, Consumer Product Safety Commission, Washington, DC 20207; telephone: (301) 504-0416, extension 2226.

Dated: March 8, 2001.
Sadye E. Dunn,
Secretary, Consumer Product Safety Commission.

[FR Doc. 01-6382 Filed 3-14-01; 8:45 am]

BILLING CODE 6355-01-P